EXPORT-IMPORT BANK OF THE UNITED STATES

[Public Notice: 2012-0448]

Application for Final Commitment for a Long-term Loan or Financial Guarantee in Excess of $100 Million

AGENCY: Export-Import Bank of the United States.

ACTION: Notice of 25 day comment period regarding an application for final commitment for a long-term loan or financial guarantee in excess of $100 million.

Reason for Notice: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter). Comments received within the comment period specified below will be presented to the Ex-Im Bank Board of Directors prior to final action on this Transaction.

Reference: AP086953XX.

Purpose and Use

Brief description of the purpose of the transaction:

To support the export of commercial aircraft to Ireland.

Brief non-proprietary description of the anticipated use of the items being exported:

To be sub-leased to foreign airlines (acceptable to Ex-Im Bank), to be determined at a later date, for short- and medium-haul passenger air service in East Asia, South Asia, and/or Europe.

To the extent that Ex-Im Bank is reasonably aware, the item(s) being exported are not expected to produce exports or provide services in competition with the exportation of goods or provision of services by a United States industry.

Parties

Principal Supplier: The Boeing Company.

Obligor: AWAS Aviation Trading Limited.

Guarantor(s): N/A.

Description of Items Being Exported

Boeing 737 aircraft.

Information on Decision: Information on the final decision for this transaction will be available in the “Summary Minutes of Meetings of Board of Directors” on http://www.exim.gov/articles.cfm/board%20minute.

Confidential Information: Please note that this notice does not include confidential or proprietary business information; information which, if disclosed, would violate the Trade Secrets Act; or information which would jeopardize jobs in the United States by supplying information that competitors could use to compete with companies in the United States.

DATES: Comments must be received on or before September 24, 2012 to be assured of consideration before final consideration of the transaction by the Board of Directors of Ex-Im Bank.

ADDRESSES: Comments may be submitted through www.regulations.gov.

Kathryn Hoff-Patrinos,
Deputy General Counsel.

[FR Doc. 2012-21160 Filed 8-27-12; 8:45 am]

BILLING CODE 6690-01-P